DEPARTMENT OF ENERGY

Federal Energy Regulatory Commission

[Docket No. RP02-235-001]

Northern Natural Gas Company; Notice of Compliance Filing

July 18, 2002.

Take notice that on July 15, 2002, Northern Natural Gas Company (Northern), tendered for filing in its FERC Gas Tariff, Fifth Revised Volume No. 1, the following tariff sheet in compliance with the Commission's Order issued on June 28, 2002, in Docket No. RP02-235-000:

Substitute Fourth Revised Sheet No. 289

In the Order the Commission accepted Northern's filing, subject to Northern removing its proposal that it would notify replacement shippers of recalls received after 5 p.m. CCT by 9 a.m. CCT the next morning. Therefore, Northern is filing the above-referenced tariff sheet to remove this provision.

Any person desiring to protest said filing should file a protest with the Federal Energy Regulatory Commission, 888 First Street, NE., Washington, DC 20426, in accordance with section 385.211 of the Commission's rules and regulations. All such protests must be filed in accordance with section 154.210 of the Commission's regulations. Protests will be considered by the Commission in determining the appropriate action to be taken, but will not serve to make protestants parties to the proceedings. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

Linwood A. Watson, Jr.,
Deputy Secretary.

[FR Doc. 02-18689 Filed 7-23-02; 8:45 am]

BILLING CODE 6717-01-P